DEPARTMENT OF TRANSPORTATION

Maritime Administration

46 CFR Part 393

[Docket No. MARAD 2008 0096]

RIN 2133-AB70

America's Marine Highway Program, Corrections

AGENCY: Maritime Administration, Department of Transportation.

ACTION: Correcting amendment.

SUMMARY: The Maritime Administration is correcting an interim final rule that appeared in the Federal Register of October 9, 2008 (73 FR 59530). Due to the current financial environment and the receipt of informal comments indicating that one hundred and twenty (120) days is insufficient time to formulate an application, this document changes the summary section of the regulation to reflect that the Maritime Administration is seeking comment on the America's Marine Highway program and recommendations for Marine Highway Corridors and not soliciting applications for specific projects at this time.

DATES: Effective Date: This final rule is effective November 10, 2008.

FOR FURTHER INFORMATION CONTACT: Michael Gordon, Office of Intermodal System Development, Marine Highways and Passenger Services, at (202) 366-5468, via e-mail at michael.gordon@dot.gov, or by writing to the Office of Marine Highways and Passenger Services, MAR-520, Suite W21-315, 1200 New Jersey Avenue, SE., Washington, DC. 20590.

SUPPLEMENTARY INFORMATION:

In FR Doc. 2008-0096 appearing on page 59530 in the Federal Register of Thursday, October 9, 2008, the following corrections are made:

Summary [Corrected]

1. On page 59530, the first sentence is corrected to read “The purpose of this interim final rule is to solicit recommendations for short sea transportation routes to be designated as Marine Highway Corridors and to seek further comment on the Marine Highway program as set forth in this regulation by section 55605(c) of Public Law 110-140, the Energy Independence and Security Act of 2007.”

Dated: October 23, 2008.
By order of the Maritime Administrator.
Christine Gurland,
Acting Secretary, Maritime Administration.

[FR Doc. E8-25958 Filed 10-30-08; 8:45 am]

BILLING CODE 4910-81-P